DEPARTMENT OF LABOR

Employment and Training Administration

[NAFTA-5596]

Teva Pharmaceuticals USA Elmwood Park, NJ; Notice of Termination of Investigation

Pursuant to Title V of the North American Free Trade Agreement Implementation Act (Pub. L. 103-182) concerning transitional adjustment assistance, hereinafter called (NAFTA-TAA), and in accordance with Section 250(a), Subchapter D, Chapter 2, Title II, of the Trade Act of 1974, as amended (19 U.S.C. 2273), an investigation was initiated on November 18, 2001, in response to a petition filed by the company on behalf of workers at Teva Pharmaceuticals USA, Elmwood Park, New Jersey.

The petitioners requested that the petition for NAFTA-TAA be withdrawn. Consequently, further investigation in this case would serve no purpose, and the investigation has been terminated.

Signed at Washington, DC, this 11th day of April, 2002.
Linda G. Poole,
Certifying Officer, Division of Trade Adjustment Assistance.

[FR Doc. 02-9752 Filed 4-19-02; 8:45 am]

BILLING CODE 4510-30-M